DEPARTMENT OF COMMERCE

National Oceanic and Atmospheric Administration

RIN 0648-XK66

Gulf of Mexico Fishery Management Council; Public Meetings

AGENCY: National Marine Fisheries Service (NMFS), National Oceanic and Atmospheric Administration (NOAA), Commerce.

ACTION: Notice of a public meeting.

SUMMARY: The Gulf of Mexico Fishery Management Council (Council) will convene its Law Enforcement Advisory Panel (LEAP).

DATES: The meeting will convene at 1:30 p.m. on Tuesday, October 14, 2008 and conclude no later than 5 p.m.

ADDRESSES: The meeting will be held at the Key Largo Grand Resort & Beach Club, A Hilton Resort, 97000 S. Overseas Hwy., Key Largo, FL 33037.

Council address: Gulf of Mexico Fishery Management Council, 2203 North Lois Avenue, Suite 1100, Tampa, FL 33607.

FOR FURTHER INFORMATION CONTACT: Dr. Richard Leard, Interim Executive Director, Gulf of Mexico Fishery Management Council; telephone: (813) 348-1630.

SUPPLEMENTARY INFORMATION: The Gulf of Mexico Fishery Management Council (Council) will convene the Law Enforcement Advisory Panel (LEAP) to discuss the Marine Recreational Information Program's (MRIP) Angler Registry, enforcement costs associated with marine aquaculture, the Council's Statement of Organization Practices and Procedures (SOPPs). The LEAP will review Draft Amendment 29 to the Reef Fish Fishery Management Plan (FMP) that proposes a grouper/tilefish individual fishing quota (IFQ) program, and approve revised Strategic and Operations plans. Finally, the LEAP will review the status of FMP amendments and other regulatory actions since the last LEAP meeting. The LEAP will also discuss Amendment 30B.

The LEAP consists of principal law enforcement officers in each of the Gulf States, as well as the National Oceanic and Atmospheric Administration (NOAA) Law Enforcement, U.S. Fish and Wildlife Service (FWS), the U.S. Coast Guard, and the NOAA General Counsel. A copy of the agenda and related materials can be obtained by calling the Council office at (813) 348-1630.

Although other non-emergency issues not on the agendas may come before the LEAP for discussion, in accordance with the Magnuson-Stevens Fishery Conservation and Management Act (Magnuson-Stevens Act), those issues may not be the subject of formal action during this meeting. Actions of the LEAP will be restricted to those issues specifically identified in the agendas and any issues arising after publication of this notice that require emergency action under Section 305(c) of the Magnuson-Stevens Act, provided the public has been notified of the Council's intent to take action to address the emergency.

Special Accommodations

These meetings are physically accessible to people with disabilities. Requests for sign language interpretation or other auxiliary aids should be directed to Tina O'Hern at the Council (see ADDRESSES) 5 working days prior to the meeting.

Dated: September 18, 2008.
Tracey L. Thompson,
Acting Director, Office of Sustainable Fisheries, National Marine Fisheries Service.

[FR Doc. E8-22165 Filed 9-22-08; 8:45 am]

BILLING CODE 3510-22-S